DEPARTMENT OF HEALTH AND HUMAN SERVICES

Centers for Disease Control and Prevention

[30Day-77-03]

Proposed Data Collections Submitted for Public Comment and Recommendations

The Centers for Disease Control and Prevention (CDC) publishes a list of information collection requests under review by the Office of Management and Budget (OMB) in compliance with the Paperwork Reduction Act (44 U.S.C. Chapter 35). To request a copy of these requests, call the CDC Reports Clearance Officer at (404) 498-1210. Send written comments to CDC, Desk Officer, Human Resources and Housing Branch, New Executive Office Building, Room 10235, Washington, DC 20503 or by fax to (202) 395-6974. Written comments should be received within 30 days of this notice.

Proposed Project: 2004 Methodological Study of the Youth Risk Behavior Survey (YRBS)—New—National Center for Chronic Disease Prevention and Health Promotion (NCCDPHP), Centers for Disease Control and Prevention (CDC).

Background

CDC intends to conduct a methodological study of the Youth Risk Behavior Survey in the Spring of 2004 to assess the effects of setting and mode of survey administration on the reporting of health-risk behaviors among adolescents. This study will provide methodological guidance for future surveys, especially surveys of adolescents. In 2000, the Office of the Assistant Secretary for Planning and Evaluation (ASPE), Department of Health and Human Services (HHS), commissioned five expert papers written on the topic “Examining Substance Abuse Data Collection Methodologies.” The papers focused on the Youth Risk Behavior Survey (YRBS), the National Survey on Drug Use and Health (NSDUH, formerly the National Household Survey on Drug Abuse, or NHSDA), and Monitoring the Future (MTF). A consensus among the authors was that disparate results across the studies are most likely a product of methodological differences across the surveys. The 2004 Methodological Study of the YRBS is designed to measure the extent to which the prevalence of health-risk behaviors among students varies by whether the survey is administered in schools versus students' homes (setting), and by whether the survey is administered using paper and pencil questionnaire booklets versus computer assisted self interviewing (mode).

Approximately 5,480 high school students will be given questionnaires in one of the four setting/mode combinations. Elucidation of the impact of these factors on prevalence will assist in reducing response effects and improving the quality of the YRBS data. The total estimated annualized burden for this data collection is 4,110 hours.

Respondents | Number of respondents | Number of responses per respondent | Average burden per response (in hours)
High school students—paper & pencil, school-based questionnaire | 1,344 | 1 | 45/60
High school students—paper & pencil, home-based questionnaire | 1,344 | 1 | 45/60
High school students—CASI, school based questionnaire | 1,344 | 1 | 45/60
High school students—CASI, home based questionnaire | 1,344 | 1 | 45/60
School administrators recruitment | 104 | 1 | 45/60

Dated: September 29, 2003.
Nancy E. Cheal,
Acting Associate Director for Policy, Planning and Evaluation, Centers for Disease Control Prevention.

[FR Doc. 03-25085 Filed 10-2-03; 8:45 am]

BILLING CODE 4163-18-P